DEPARTMENT OF DEFENSE

Department of the Navy

Notice of Availability of Government-Owned Invention; Available for Licensing

AGENCY: Department of the Navy, DOD.

ACTION: Notice.

SUMMARY: The invention listed below is assigned to the United States Government, as represented by the Secretary of the Navy and is available for licensing by the Department of the Navy. U.S. Patent No. 6,844,875: Video Converter Board.

ADDRESSES: Requests for copies of the invention cited should be directed to the Naval Surface Warfare Center, Crane Division, Code 054, Building 1, 300 Highway 361, Crane, IN 47522-5001, and must include the patent number.

FOR FURTHER INFORMATION CONTACT: Mr. Brian Bailey, Naval Surface Warfare Center, Crane Division, Code 054, Building 1, 300 Highway 361, Crane, IN 47522-5001, telephone 812-854-1865. An application for license may be downloaded from www.crane.navy.mil/newscommunity/techtrans_CranePatents.asp.

(Authority: 35 U.S.C. 207, 37 CFR Part 404.)

Dated: May 28, 2005.
I. C. Le Moyne Jr.,
Lieutenant, Judge Advocate General's Corps, U.S. Navy, Alternate Federal Register Liaison Officer.

[FR Doc. 05-6664 Filed 4-4-05; 8:45 am]

BILLING CODE 3810-FF-P